DEPARTMENT OF COMMERCE

National Oceanic and Atmospheric Administration

[I.D. 101405A]

Fisheries off West Coast States and in the Western Pacific; Western Pacific Pelagic Fisheries; Western and Central Pacific Fisheries Convention; Public Meetings

AGENCY: National Marine Fisheries Service (NMFS), National Oceanic and Atmospheric Administration (NOAA), Commerce.

ACTION: Notice of public meetings; request for comments.

SUMMARY: The Pacific Islands Regional Office of NMFS will hold two public meetings related to the Convention on the Conservation and Management of Highly Migratory Fish Stocks in the Western and Central Pacific Ocean (“Convention”). The purposes of the meetings are: to seek specific input for the U.S. delegation to the December 2005 session of the Commission established by the Convention, of which the United States is currently a cooperating non-member; and to provide general information about, and seek public input on, potential regulatory and other actions to be taken by NMFS should the U.S. Senate ratify the Convention and the Congress enact implementing legislation.

DATES: The San Diego meeting will be held on November 1, 2005, from 6:30 p.m. to 9:30 p.m. The Honolulu meeting will be held November 15, 2005, from 1 p.m. to 4 p.m.

ADDRESSES: The San Diego meeting will be held at the Hyatt Regency Islandia, Room Mission B, 1441 Quivira Road, San Diego, CA. The Honolulu meeting will be held at the Pacific Islands Regional Office, NMFS, 1601 Kapiolani Blvd., Suite 1110, Honolulu, HI. Submit written comments to William L. Robinson, Regional Administrator, Pacific Islands Regional Office, NMFS, 1601 Kapiolani Blvd., Suite 1110, Honolulu, HI 96814. You may submit comments by email to pir.wcpfc@noaa.gov or facsimile (fax) to 808-973-2941.

FOR FURTHER INFORMATION CONTACT: Rhea Moss, NMFS, 808-944-2153.

SUPPLEMENTARY INFORMATION:

Background on the Convention

After over 4 years of complex negotiations among the coastal States of the western and central Pacific Ocean and States fishing in that region, the Convention was opened for signature at Honolulu on September 5, 2000.

The objective of the Convention is to ensure, through effective management, the long-term conservation and sustainable use of highly migratory fish stocks in the western and central Pacific Ocean in accordance with the 1982 United Nations Convention on the Law of the Sea (UNCLOS) and the 1995 United Nations Agreement for the Implementation of the Provisions of the UNCLOS of December 10, 1982, Relating to the Conservation and Management of Straddling Fish Stocks and Highly Migratory Fish Stocks (“UN Fish Stocks Agreement”). For this purpose, the Convention establishes, among other things, the Commission, and a Secretariat located in Pohnpei, Federated States of Micronesia. According to the Convention, the Commission has certain responsibilities and functions with respect to the conservation and management of highly migratory species (HMS) stocks within the Convention Area. Such HMS stocks include fish stocks of the species listed in Annex I of the UNCLOS and such other species as the Commission may determine. Conservation and management measures under the Convention may be applied throughout the range of the stocks, or to specific areas within the Convention Area, as determined by the Commission.

The Convention Area is defined in article 3 of the Convention and comprises a large area of the Pacific Ocean predominantly west of the 150° meridian W. long. and north of the 55° parallel S. lat.

The Convention was open for signature for 12 months from September 5, 2000, by the states and territories that participated in the Multilateral High-Level Conference on the Conservation and Management of Highly Migratory Fish Stocks in the Western and Central Pacific, namely: Australia, Canada, China, Cook Islands, Federated States of Micronesia, Fiji, France, Indonesia, Japan, Republic of Kiribati, Republic of the Marshall Islands, Republic of Nauru, New Zealand, Niue, Republic of Palau, Independent State of Papua New Guinea, Republic of the Philippines, Republic of Korea, Independent State of Samoa, Solomon Islands, Kingdom of Tonga, Tuvalu, United Kingdom of Great Britain and Northern Ireland in respect of Pitcairn, Henderson, Ducie and Oeno Islands, United States of America and Republic of Vanuatu. The depositary for the Convention is the Government of New Zealand.

In accordance with the provisions of its article 36, the Convention entered into force on June 19, 2004, 6 months after the deposit of the thirteenth instrument of ratification, acceptance, approval or accession. As of October 2005, the following States had ratified or acceded to the Convention; Australia, China, Cook Islands, European Community, Federated States of Micronesia, Fiji, France, Japan, Korea, Kiribati, Marshall Islands, Nauru, New Zealand, Niue, Papua New Guinea, Philippines, Samoa, Solomon Islands, Tonga and Tuvalu. The Convention also contains special arrangements for participation by fishing entities and by territories situated within the Convention Area. In accordance with the Arrangement for the Participation of Fishing Entities, Chinese Taipei has agreed to be bound by the regime established by the Convention in accordance with its article 9, and to participate in the work of the Commission. In accordance with article 43 on the participation of territories, Tokelau, French Polynesia, New Caledonia and Wallis and Futuna are authorized to participate in the Commission and its subsidiary bodies.

In accordance with paragraph 1 of article 35, the Convention shall remain open for accession by the States referred to in article 34, paragraph 1, and by any entity referred to in article 305, paragraph 1(c), (d) and (e) of the UNCLOS that is situated in the Convention Area. The Parties to the Convention may, by consensus, invite other States and regional economic integration organizations (e.g. European Union) whose nationals or fishing vessels wish to conduct fishing for HMS stocks in the Convention Area to accede to the Convention.

Further background information may be obtained from the Commission's website, http://www.wcpfc.org

Potential NMFS action to implement the Convention

Currently the scope of environmental review required under the National Environmental Policy Act (NEPA) for potential NMFS action related to the Convention is undetermined. A Notice of Intent (NOI) to prepare an Environmental Impact Statement (EIS) under the authority of the NEPA has not been published. However, by way of this notice and these public meetings, NMFS is seeking public input on potential action by NMFS in the event that the U.S. States Senate ratifies the Convention and Congress enacts legislation that gives authority to the Secretary of Commerce and in turn NMFS to implement the relevant provisions of the Convention. Comments received during these public meetings and written comments received in response to this notice may be considered by NMFS as part of the scoping process for subsequent environmental review, such as if NMFS later issues an NOI to prepare an EIS for a proposed action related to the Convention.

In the event of ratification of the Convention(in which case the United States would become a member of the Commission) and legislation the need for action would be limited to fulfilling the obligations of the United States with respect to the Convention provisions that are ready for decision-making. Examples of such provisions are in the articles of the Convention relating to: flag state duties; compliance and enforcement; boarding and inspection; port state measures; the implementation of a regional vessel observer program; and regulation and monitoring of transshipments.

Commission's Second Annual Session, December 2005, Pohnpei, Federated States of Micronesia

The United States has not ratified the Convention as of this date and thus will participate in the second session of the Commission in December 2005 as a cooperating non-member. Anticipated items of interest at the December 2005 Commission session include the status of bigeye and yellowfin tuna stocks and consideration of conservation and management measures to ensure sustainable use of those stocks, the establishment of the Northern Committee (NC), and the first meeting of the Technical and Compliance Committee (TCC).

The first meeting of the Commission's Scientific Committee (SC), held in Noumea, New Caledonia, in August 2005, resulted in updated stock assessments for the four primary tuna species in the Convention Area. The most recent results for bigeye tuna confirm previous analyses that the current level of fishing mortality is likely greater than the level associated with maximum sustainable yield (MSY). In addition the most recent yellowfin tuna assessment is more pessimistic than previous analyses, and suggests this stock is also subject to a fishing mortality rate greater than the level associated with MSY. As the Commission previously resolved (2004) to adopt conservation and management measures at the 2005 annual session and the SC's latest assessments suggest overfishing is occurring for two principal tuna stocks in the region, there will be considerable attention given to potential conservation and management measures for these stocks.

The NC is to be established as a subsidiary body of the Commission with responsibility to develop recommendations for conservation and management measures for those stocks primarily located and fished north of the 20° parallel N. lat. Actions of the NC, once established, may include, in addition to establishing institutional processes for itself, proposing a Memorandum of Understanding between the International Scientific Committee for Tuna and Tuna-like Species in the North Pacific Ocean and the Commission, and recommending that the Commission adopt a resolution to address the sustainable use of albacore tuna in the north Pacific.

The first meeting of the Commission's TCC is to be held immediately prior to the Commission session, and will likely focus on establishing a work plan for future action by the Committee. Other matters of priority will be the development of standards, specifications and procedures for the Commission's vessel monitoring system, the regional vessel observer program and the United Nations Food and Agricultural Organization Port State Model Scheme.

Special Accommodations

These meetings are physically accessible to people with disabilities. Requests for sign language interpretation or other auxiliary aids should be directed to Rhea Moss, NMFS, 808-944-2153(voice) or 808-973-2941 (fax), at least 5 working days prior to the meeting date.

Authority: 16 U.S.C. 1801 et seq., and 16 U.S.C. 5501 et seq.

Dated: October 14, 2005.
Alan D. Risenhoover,
Acting Director, Office of Sustainable Fisheries, National Marine Fisheries Service.

[FR Doc. 05-20940 Filed 10-18-05; 8:45 am]

BILLING CODE 3510-22-S